DEPARTMENT OF HEALTH AND HUMAN SERVICES

Centers for Disease Control and Prevention

Board of Scientific Counselors, National Center for Public Health Informatics (BSC, NCPHI)

Correction: The notice was originally published in the Federal Register on February 25, 2009 (Volume 74, Number 36)] [page 8546] http://edocket.access.gpo.gov/2009/E9-4001.htm. The matters to be discussed should read as follows:

Matters to be Discussed: To discuss BSC, NCPHI-related matters including: the Stimulus package; update on BioSense; re-formation of three working groups; and planning for the May 26, 2009 meeting in Orlando, Florida. Agenda items are subject to change as priorities dictate.

FOR FURTHER INFORMATION CONTACT: Dr. Scott McNabb, National Center for Public Health Informatics, CDC, 1600 Clifton Road, NE., (E-78), Atlanta, Georgia 30333, Telephone (404) 498-6427, Fax (404) 498-6235.

The Director, Management Analysis and Services Office, has been delegated the authority to sign Federal Register notices pertaining to announcements of meetings and other committee management activities, for both CDC and the Agency for Toxic Substances and Disease Registry.

Dated: March 23, 2009.
Elaine L. Baker,
Director, Management Analysis and Services Office, Centers for Disease Control and Prevention.

[FR Doc. E9-7166 Filed 3-30-09; 8:45 am]

BILLING CODE 4163-18-P